DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS).

FOR FURTHER INFORMATION CONTACT: Jay LeMaster, Department of Education, 400 Maryland Avenue SW, Room 11-152, Potomac Center Plaza, Washington, DC 20202-7240. Telephone: (202) 245-6218 or by email: John.LeMaster@ed.gov.

If you use a telecommunications device for the deaf (TDD) or a text telephone (TTY), call the Federal Relay Service (FRS), toll-free, at 1-800-877-8339.

SUPPLEMENTARY INFORMATION: On January 14, 2008, we published in the Federal Register final regulations for 34 CFR part 462, Measuring Educational Gain in the National Reporting System for Adult Education (NRS regulations) (73 FR 2306). The NRS regulations established the process the Secretary uses to determine the suitability of tests for use in the NRS by States and local eligible providers. We annually publish in the Federal Register and post on the internet at www.nrsweb.org a list of the names of tests and the educational functioning levels the tests are suitable to measure in the NRS as required by § 462.12(c)(2).

On December 13, 2016, the Secretary published in the Federal Register (81 FR 89920) an annual notice of tests determined to be suitable for use in the NRS (December 2016 notice). In the December 2016 notice, the Secretary extended the approved periods for all 12 of the tests listed in the notice through February 2, 2019.

On September 7, 2017, the Secretary published in the Federal Register (82 FR 42339) an annual notice of tests determined to be suitable for use in the NRS (September 2017 notice). In the September 2017 notice, the Secretary announced a new test and test forms that were determined to be suitable for use in the NRS, in accordance with § 462.13.

In addition to the tests identified in the December 2016 and September 2017 notices as determined to be suitable for use in the NRS through February 2, 2019, and September 7, 2024, respectively, the Secretary now announces another test and test forms that have been determined to be suitable for use in the NRS, in accordance with § 462.13. This test measures the NRS educational functioning levels for Literacy/English Language Arts at all Adult Basic Education (ABE) levels, as described in Appendix A of Measures and Methods for the National Reporting System for Adult Education (OMB Control Number: 1830-0027).

Approved Tests, Forms, and Approved Periods

Adult education programs must use only the approved forms and computer-based delivery formats for the tests published in this document. If a particular test form or computer delivery format is not explicitly specified for a test in the December 2016 notice, the September 2017 notice, or in this notice, it is not approved for use in the NRS.

Test Determined To Be Suitable for Use in the NRS for a Seven-Year Period From the Date of Publication of This Notice

The Secretary has determined that the following test is suitable for use in Literacy/English Language Arts at all ABE levels of the NRS for a period of seven years from the date of publication of this notice:

Comprehensive Adult Student Assessment System (CASAS) Reading GOALS Series. Forms 901, 902, 903, 904, 905, 906, 907, and 908 are approved for use on paper and through a computer-based delivery format. Publisher: CASAS, 5151 Murphy Canyon Road, Suite 220, San Diego, CA 92123-4339. Telephone: (800) 255-1036. Internet: www.casas.org/.

Revocation of Tests

Under certain circumstances, the Secretary may revoke the determination that a test is suitable (see § 462.12(e)). If the Secretary revokes the determination of suitability, the Secretary announces through the Federal Register and posts on the internet at www.nrsweb.org a notice of that revocation, along with the date by which States and local eligible providers must stop using the revoked test.

Accessible Format: Individuals with disabilities can obtain this document in an accessible format (such as braille, large print, audiotape, or compact disc) on request to the contact person listed under FOR FURTHER INFORMATION CONTACT in this notice.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: 29 U.S.C. 3292.

Dated: January 31, 2018.
Michael E. Wooten,
Acting Assistant Secretary for Career, Technical, and Adult Education.

[FR Doc. 2018-02237 Filed 2-2-18; 8:45 am]

BILLING CODE 4000-01-P